DEPARTMENT OF THE INTERIOR

National Park Service

[NPS-WASO-NRNHL-DTS#-29304; PPWOCRADI0, PCU00RP14.R50000]

National Register of Historic Places; Notification of Pending Nominations and Related Actions

AGENCY: National Park Service, Interior.

ACTION: Notice.

SUMMARY: The National Park Service is soliciting comments on the significance of properties nominated before November 9, 2019, for listing or related actions in the National Register of Historic Places.

DATES: Comments should be submitted by December 23, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 9, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

FLORIDA

Miami-Dade County

Barry University Historic District, 1300 NE Second Ave., Miami Shores, SG100004782

GEORGIA

Spalding County

Milner-Walker House, 708 South Hill St., Griffin, SG100004786

MICHIGAN

Genesee County

City of Flint Municipal Center, 1101 Saginaw St., 210 East Fifth St., 310 East Fifth St., Flint, SG100004775

NEW YORK

Erie County

Boarding House at 72-74 Sycamore Street, 72 Sycamore St., Buffalo, SG100004805

Monroe County

Polvino Building, 216 Central Park, Rochester, SG100004804

Montgomery County

Amsterdam Free Library, 28 Church St., Amsterdam, SG100004800

Rockland County

Pousette-Dart, Richard, House and Studio, 932 Haverstraw Rd., Suffern vicinity, SG100004802

Schuyler County

First Presbyterian Church of Watkins Glen, 520 North Decatur St., Watkins Glen, SG100004801

Wayne County

Clyde Downtown Historic District, Portions of Glasgow St., Caroline St., Columbia St., Sodus St., North & South Park Sts. & West Genesee St., Clyde, SG100004803

NORTH CAROLINA

Bertie County

Colerain Historic District, North & West Academy Sts., Britton St., Cedar St., Glover St., North & South Main Sts., East & West River Sts. & Winton St., Colerain, SG100004797

Forsyth County

Evergreen Farm, 2532 Jonestown Rd., Winston-Salem, SG100004796

Montgomery County

Mount Carmel Presbyterian Church and Cemetery, 1367 Clayton Carriker Rd., Norman, SG100004795

Northampton County

Warren Place, 925 Willis Hare Rd., Pendleton vicinity, SG100004792

Richmond County

Mount Carmel Presbyterian Church and Cemetery, 1367 Clayton Carriker Rd., Norman, SG100004795

Surry County

Ridge Westfield Elementary School, 4416 Westfield Rd., Mount Airy vicinity, SG100004794

Graves, Ben and Barbara, House, 309 Fairview Ave., Mount Airy, SG100004799

Vance County

Morgan, Thomas A., Farm, 1471, 1473 & 1475 Morgan Rd., Townsville vicinity, SG100004798

Wake County

St. Ambrose Episcopal Church, 813 Darby St., Raleigh, SG100004791

Oakwood Cemetery, 701 Oakwood Ave., Raleigh, SG100004793

OHIO

Cuyahoga County

Myrtle-Highview Historic District, 16209 to 16408 Highview Dr. & 16200 to 16409 Myrtle Ave.; Roughly bounded by Lee Rd., Myrtle Ave., Highview Dr. & dead end., Cleveland, SG100004778

Lucas County

Landers Brothers Company Building, 443 10th St., Toledo, SG100004779

Overmyer Building, The, 15 South Ontario St., Toledo, SG100004780

Marion County

Marion Women's Club, 1126 East Center St., Marion, SG100004781

RHODE ISLAND

Providence County

Moore Fabric Company Plant, 45-47 Washington St., Pawtucket, SG100004785

Washington County

Wakefield Historic District (Boundary Increase), Mains St., High St., Robinson St., Wright Ave., South Kingstown, BC100004777

WASHINGTON

King County

Freeway Park, 700 Seneca St., Seattle, SG100004789

Skagit County

Fraternal Order of Eagles Hall-Anacortes, 901 Seventh St., Anacortes, SG100004790

Spokane County

Bleeker, Harry and Catherine, House, 1707 North West Point Rd., Spokane, SG100004787

Warner, William and Ella, House, 2627 South Manito Blvd., Spokane, SG100004788

Additional documentation has been received for the following resource:

RHODE ISLAND

Washington County

Wakefield Historic District (Additional Documentation), Roughly, Main St. from Belmont Ave. to Columbia St., South Kingstown, AD96000572

Authority: Section 60.13 of 36 CFR part 60.

Dated: November 12, 2019.
Julie H. Ernstein,
Supervisory Archeologist, National Register of Historic Places/National Historic Landmarks Program.

[FR Doc. 2019-26328 Filed 12-5-19; 8:45 am]

BILLING CODE 4312-52-P